DEPARTMENT OF COMMERCE

National Oceanic and Atmospheric Administration

[RTID 0648-XE099]

Marine Mammals and Endangered Species

AGENCY: National Marine Fisheries Service (NMFS), National Oceanic and Atmospheric Administration (NOAA), Commerce.

ACTION: Notice; issuance of permits and permit amendments.

SUMMARY: Notice is hereby given that permits or permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Amy Hapeman (Permit No. 27973), Jennifer Skidmore (Permit No. 27408), Shasta McClenahan, Ph.D. (Permit No. 27503), Sara Young (Permit Nos. 22289-01 and 27499), Erin Markin, Ph.D. (Permit No. 26727-01), and Carrie Hubard (Permit No. 26593-01); at (301) 427-8401.

SUPPLEMENTARY INFORMATION: Notices were published in the Federal Register on the dates listed below that requests for a permit or permit amendment had been submitted by the below-named applicants. To locate the Federal Register notice that announced our receipt of the application and a complete description of the activities, go to https://www.federalregister.gov and search on the permit number provided in table 1 below.

Table 1—Issued Permits and Permit Amendments
Permit No. | RTID | Applicant | Previous Federal Register Notice | Issuance date
22289-01 | 0648-XG913 | Alaska Fisheries Science Center's Marine Mammal Laboratory (MML), 7600 Sand Point Way NE, Seattle, WA 98115 (Responsible Party: John Bengtson) | 84 FR 34371, July 18, 2019 | June 21, 2019.
26593-01 | 0648-XD551 | Adam Pack, Ph.D., University of Hawaii at Hilo, 200 West Kawili Street, Hilo, HI 96720 | 88 FR 82340, November 24, 2023 | June 24, 2024.
26727-01 | 0648-XC758 | Aaron Lynton, 986 Kupulau Drive, Kihei, HI 96853 | 88 FR 8408, February 9, 2023 | May 6, 2024.
27408 | 0648-XD710 | Alaska Sea Life Center, P.O. Box 1329, 301 Railway Avenue, Seward, AK 99664 (Responsible Party: Wei Ying Wong, Ph.D.) | 89 FR 8171, February 6, 2024 | June 17, 2024.
27499 | 0648-XD710 | Alaska Fisheries Science Center's MML, 7600 Sand Point Way NE, Seattle, WA 98115 (Responsible Party: John Bengston) | 89 FR 8171, February 6, 2024 | June 17, 2024.
27503 | 0648-XD710 | Alaska Department of Fish and Game, P.O. Box 25526, Juneau, AK 99802 (Responsible Party: Michael Rehberg) | 89 FR 8171, February 6, 2024 | June 17, 2024.
27973 | 0648-XD829 | Texas A & M University-Corpus Christi, Tidal Hall 231, Corpus Christi, TX 78412 (Responsible Party: Dara Orbach, Ph.D.) | 89 FR 22127, March 29, 2024 | June 6, 2024.

For permit Nos. 26593-01, 26727-01, and 27973, in compliance with the National Environmental Policy Act of 1969 (42 U.S.C. 4321 et seq.), a final determination has been made that the activities proposed are categorically excluded from the requirement to prepare an environmental assessment (EA) or environmental impact statement (EIS).

For Permit Nos. 22289-01, 27408, 27499, and 27503, a determination was made that the activities authorized are consistent with the Preferred Alternative in the Final Programmatic EIS for Steller Sea Lion and Northern Fur Seal Research (NMFS 2007). A supplemental EA (NMFS 2014) was prepared for the addition of unmanned aerial surveys to the suite of research activities analyzed under the EIS and concluded that issuance of the permits would not have a significant adverse impact on the human environment. Environmental review memos were prepared to summarize these findings.

As required by the ESA, as applicable, issuance of these permit was based on a finding that such permits: (1) were applied for in good faith; (2) will not operate to the disadvantage of such endangered species; and (3) are consistent with the purposes and policies set forth in section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: July 8, 2024.
Julia M. Harrison,
Chief, Permits and Conservation Division, Office of Protected Resources, National Marine Fisheries Service.

[FR Doc. 2024-15350 Filed 7-11-24; 8:45 am]

BILLING CODE 3510-22-P